DEPARTMENT OF TRANSPORTATION

Federal Aviation Administration

14 CFR Part 39

[Docket No. 2002-NM-232-AD; Amendment 39-13547; AD 2004-07-03]

RIN 2120-AA64

Airworthiness Directives; Dassault Model Mystere-Falcon 50 Series Airplanes

AGENCY: Federal Aviation Administration, DOT.

ACTION: Final rule.

SUMMARY: This amendment adopts a new airworthiness directive (AD), applicable to certain Dassault Model Mystere-Falcon 50 series airplanes, that requires one-time detailed inspections for structural discrepancies of various fuselage attachments; and corrective actions, if necessary, to restore the structure to the original design specifications. This action is necessary to prevent early fatigue, corrosion, or fretting, which could result in structural failure of major components of the airplane and reduced structural integrity of the airplane. This action is intended to address the identified unsafe condition.

DATES: Effective May 4, 2004.

The incorporation by reference of a certain publication listed in the regulations is approved by the Director of the Federal Register as of May 4, 2004.

ADDRESSES: The service information referenced in this AD may be obtained from Dassault Falcon Jet, PO Box 2000, South Hackensack, New Jersey 07606. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to certain Dassault Model Mystere-Falcon 50 series airplanes was published in the Federal Register on January 22, 2004 (69 FR 3041). That action proposed to require one-time detailed inspections for structural discrepancies of various fuselage attachments; and corrective actions, if necessary, to restore the structure to the original design specifications.

Comments

Interested persons have been afforded an opportunity to participate in the making of this amendment. No comments were submitted in response to the proposal or the FAA's determination of the cost to the public.

Conclusion

The FAA has determined that air safety and the public interest require the adoption of the rule as proposed.

Cost Impact

The FAA estimates that 21 airplanes of U.S. registry will be affected by this AD, and that it will take between 5 hours and 123 hours to accomplish each inspection, depending on the operating point(s) that are inspected. The average labor rate is $65 per work hour. Based on these figures, the cost impact of the AD on U.S. operators is estimated to be between $325 and $7,995 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-07-03 Dassault Aviation: Amendment 39-13547. Docket 2002-NM-232-AD.

Applicability: Model Mystere-Falcon 50 series airplanes, having serial numbers (S/N) 253 through 278 inclusive; certificated in any category.

Compliance: Required as indicated, unless accomplished previously.

To prevent early fatigue, corrosion, or fretting, which could result in structural failure of major components, and possible reduced structural integrity of the airplane, accomplish the following:

Inspections and Corrective Actions

(a) Within 78 months after the effective date of this AD, perform one-time detailed inspection(s) for structural discrepancies of the fuselage attachments at all applicable operating points specified in paragraph 2.B. of the Accomplishment Instructions of Dassault Service Bulletin F50-332, dated March 13, 2002. Perform the inspections in accordance with the Accomplishment Instructions of the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) If any structural discrepancy of the fuselage attachments (e.g., missing rivets, and loose or un-reinforced rivets and screws) is found during the inspections required by paragraph (a) of this AD: Prior to further flight, accomplish all applicable corrective actions (e.g., installing new shims, installing new reinforcement fittings, re-torquing or re-installing screws, and installing missing rivets), as applicable, at the appropriate operating point(s) of the fuselage, in accordance with the Accomplishment Instructions of Dassault Service Bulletin F50-332, dated March 13, 2002.

No Reporting Requirements

(c) Although the service bulletin specifies to submit a reporting card to the manufacturer, this AD does not include such a requirement.

Alternative Methods of Compliance

(d) In accordance with 14 CFR 39.19, the Manager, International Branch, ANM-116, FAA, Transport Airplane Directorate, is authorized to approve alternative methods of compliance for this AD.

Incorporation by Reference

(e) The actions shall be done in accordance with Dassault Service Bulletin F50-332, dated March 13, 2002. This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 2: The subject of this AD is addressed in French airworthiness directive 2002-033-039(B) R1, dated May 15, 2002.

Effective Date

(f) This amendment becomes effective on May 4, 2004.

Issued in Renton, Washington, on March 19, 2004.
Kevin M. Mullin,
Acting Manager, Transport Airplane Directorate, Aircraft Certification Service.

[FR Doc. 04-6776 Filed 3-29-04; 8:45 am]

BILLING CODE 4910-13-P